DEPARTMENT OF HEALTH AND HUMAN SERVICES

Substance Abuse and Mental Health Services Administration

[Document Identifier 0930-0092]

Agency Information Collection Request; 60-Day Public Comment Request; Correction

AGENCY: Substance Abuse and Mental Health Services Administration, Department of Health and Human Services.

ACTION: Notice; correction.

SUMMARY: The Substance Abuse and Mental Health Services Administration published a correction document in the Federal Register on December 7, 2022 concerning request for comments on Confidentiality of Substance Use Disorder Patient Records published November 22, 2022. The November 22, 2022 publication only listed the Department of Health and Human Services in the headings and contained an incorrect Document Identifier and contact for further information or submission of public comments. The December 7, 2022 document corrected those errors but contained an incorrect contact email address. This document corrects the contact email address. Comments on the information collect request must be received on or before January 23, 2023.

SUPPLEMENTARY INFORMATION: In the Federal Register of November 22, 2022, at 87 FR 71341, in FR Doc. 2022-25343, the following corrections are made:

1. On page 71341, in the second column, correct the ADDRESSES and FOR FURTHER INFORMATION CONTACT captions to read:

ADDRESSES: Submit your comments to Carlos.Graham@samhsa.hhs.gov or by calling (240) 276-0361.

FOR FURTHER INFORMATION CONTACT: When submitting comments or requesting information, please include the document identifier 0930-0092, and project title for reference, to Carlos Graham, Reports Clearance Officer; email: Carlos.Graham@samhsa.hhs.gov, or call (240) 276-0361.

Carlos Graham,
Reports Clearance Officer.

[FR Doc. 2022-27224 Filed 12-14-22; 8:45 am]

BILLING CODE 4162-20-P